DEPARTMENT OF TRANSPORTATION

Federal Transit Administration

49 CFR Part 612

[Docket No. FTA-2008-0005]

RIN 2132-AA96

Contractor Performance Incentives for the Capital Investment Program

AGENCY: Federal Transit Administration (FTA), DOT.

ACTION: Notice of proposed rulemaking; withdrawal.

SUMMARY: This action withdraws an FTA notice of proposed rulemaking (NPRM), Contractor Performance Incentives for the Capital Investment Program, published in the Federal Register on February 19, 2008 (73 FR 9075). FTA has determined that contractor performance incentives do not require a rulemaking to be effectuated. Rather, FTA can work with project sponsors on a case-by-case basis to provide incentives, and therefore, the rulemaking is withdrawn.

FOR FURTHER INFORMATION CONTACT: Sherry Riklin, Deputy Associate Administrator for Planning and Environment, 1200 New Jersey Avenue, SE., East Building, Washington, DC 20590, phone: (202) 366-4033, fax: (202) 493-2478 or e-mail, Sherry.Riklin@dot.gov. For legal questions, please contact Bonnie L. Graves, Attorney-Advisor, Legislation and Regulations Division, Office of Chief Counsel, same address, phone: (202) 366-0944, fax: (202) 366-3809, or e-mail, Bonnie.Graves@dot.gov.

SUPPLEMENTARY INFORMATION:

Background

On August 10, 2005, President Bush signed the Safe, Accountable, Flexible, and Efficient Transportation Equity Act—A Legacy for Users (SAFETEA-LU). Section 3011 of SAFETEA-LU made a number of changes to 49 U.S.C. 5309 (“Section 5309”), which authorizes the Federal Transit Administration's (FTA's) capital investment grant program. SAFETEA-LU emphasized the need to improve the accuracy of the estimates of ridership and costs used to support the selection of a capital investment project (“New Start”) as a locally preferred alternative (LPA) for Section 5309 funds. Section 5309(d)(4)(B)(i) and Section 5309(e)(4)(D) add “the reliability of forecasting methods” as a new evaluation consideration; Section 5309(g)(2)(C) codifies the “before and after” study requirement; and Section 5309(l)(2) requires FTA to produce an annual report on contractor performance in the development of ridership forecasts and cost estimates for New Starts projects.

FTA published a notice of proposed rulemaking (NPRM) for the Contractor Performance Incentives for the Capital Investment Program on February 19, 2008. FTA received written comments from three entities. All three entities expressed general support for the concept of providing incentives for accurate ridership and cost estimates, and also expressed concerns about the practicality of the proposal.

Upon reflection, FTA has determined that a separate rulemaking is not necessary in order to implement incentives to contractors for accurate ridership and cost estimates. FTA will work with project sponsors case-by-case to provide incentives to contractors for accurate ridership and cost estimates as appropriate, and may, at some point in the future, include incentives in a New Starts rulemaking, or issue a policy statement or guidance document to provide guidelines on incentives.

Today's issue of the Federal Register contains another withdrawal notice by which FTA is also withdrawing the NPRM it issued for the Major Capital Investment Program on August 3, 2007 (72 FR 43328).

The Withdrawal

In consideration of the foregoing, the NPRM for FTA Docket No. FTA-2008-0005, as published in the Federal Register on February 19, 2008 (73 FR 9075) is hereby withdrawn.

Issued in Washington, DC, this 10th day of February, 2009.
Matthew J. Welbes,
Acting Deputy Administrator.

[FR Doc. E9-3207 Filed 2-13-09; 8:45 am]

BILLING CODE 4910-57-P